INTERNATIONAL TRADE COMMISSION

19 CFR Part 206

Investigations Relating to Global and Bilateral Safeguard Actions, Market Disruption, and Review of Relief Actions

AGENCY: International Trade Commission.

ACTION: Interim rule with request for comments and opportunity for objection.

SUMMARY: The United States International Trade Commission (Commission) is amending on an interim basis part 206 of its Rules of Practice and Procedure. The amendment will have the effect of providing for disclosure of confidential business information under administrative protective order in certain proceedings, and is prompted by a party request. The Commission requests comments on the interim amendment. The Commission also is providing parties to two currently-pending investigations the opportunity to object to application of the amendment to the investigation to which they are a party.

DATES: Effective Date: The interim amendment will take effect, as to both pending and new investigations, on June 14, 2001.

Comment Date: Comments are due on or before 5:15 p.m. August 13, 2001.

Objection Date: Objections are due on or before 5:15 p.m. June 21, 2001.

ADDRESSES: A signed original and 14 copies of each set of comments or objections should be mailed or hand delivered to Donna R. Koehnke, Secretary, United States International Trade Commission, 500 E. Street, SW., Room 112, Washington, DC 20436.

FOR FURTHER INFORMATION CONTACT: William W. Gearhart, Esq., Office of the General Counsel, U.S. International Trade Commission (telephone 202-205-3091). Hearing-impaired individuals are advised that information on this matter can be obtained by contacting the Commission's TDD terminal at 202-205-1810. General information concerning the Commission may also be obtained by accessing its Internet server (http://www.usitc.gov).

SUPPLEMENTARY INFORMATION: Section 335 of the Tariff Act of 1930 (19 U.S.C. 1335) authorizes the Commission to adopt such reasonable procedures, rules, and regulations as it deems necessary to carry out its functions and duties. Section 202 of the Trade Act of 1974 (19 U.S.C. 2252) provides for the Commission to promulgate regulations concerning access to confidential business information (CBI) under administrative protective order (APO) in safeguard investigations. The interim amendment set out herein concerns rules of agency organization, procedure, and practice.

A party to Inv. No. TA-204-6, Certain Steel Wire Rod, has requested disclosure of CBI under APO. The Commission's Rules of Practice and Procedure do not currently provide for such disclosure. The investigation is subject to statutory deadlines and is scheduled to be completed in a relatively short period of time. Consequently, the Commission cannot pursue the normal notice-and-comment rulemaking schedule called for in the Administrative Procedure Act, under 5 U.S.C. 553, and has good cause for making its rule amendment effective on publication. Therefore, the Commission is amending its rules on an interim basis, effective on the date of publication of this notice.

The Commission is amending section 206.52 of the Commission's Rules (19 CFR 206.52) to add a new paragraph (c) that corresponds to the existing paragraph (e) in section 206.54. This change will permit the disclosure of CBI under APO in monitoring proceedings addressed in section 206.52.

Because of the emergency nature of the amendment, the Commission is providing each party to one of the two currently-pending investigations, Inv. No. TA-204-6, Certain Steel Wire Rod and Inv. No. TA-204-5, Circular Welded Carbon Quality Line Pipe, the opportunity to object to application of the amendment to the investigation to which it is a party. Any such objection must be filed no later than 7 calendar days after the date of publication of this notice.

Regulatory Flexibility Act

In accordance with the Regulatory Flexibility Act (5 U.S.C. 601 et seq.), the Commission certifies pursuant to 5 U.S.C. 605(b), that the amendment set forth in this notice will not, if promulgated, have a significant economic impact on a substantial number of small entities. The amendment will clarify current Commission procedures, and does not substantially increase the burden of appearing or practicing before the Commission.

Executive Order 12866

The Commission has determined that the amendment does not meet the criteria described in section 3(f) of Executive Order 12866 (58 FR 51735, October 4, 1993) (E.O.) and thus does not constitute a significant regulatory action for purposes of the E.O., since the revisions will not result in (1) an annual effect on the economy of $100 million or more, (2) a major increase in costs or prices for consumers, individual industries, Federal, State, or local government agencies, or geographic regions, or (3) significant adverse effects on competition, employment, investment, productivity, innovation, or on the ability of United States-based enterprises to compete with foreign-based enterprises in domestic or foreign markets. Accordingly, no regulatory impact assessment is required.

Executive Order 13132

The amendment does not contain federalism implications warranting the preparation of a Federalism Assessment pursuant to E.O. 13132 (64 FR 43255, August 4, 1999).

Unfunded Mandates Reform Act of 1995

The amendment will not result in the expenditure by State, local, and tribal governments, in the aggregate, or by the private sector, of $100,000,000 or more in any one year, and will not significantly or uniquely affect small governments. Therefore, no actions are deemed necessary under the provisions of the Unfunded Mandates Reform Act of 1995 (2 U.S.C. 1501 et. seq.).

Small Business Regulatory Enforcement Fairness Act of 1996

The amendment is not a major rule as defined by section 804 of the Small Business Regulatory Enforcement Fairness Act of 1996 (5 U.S.C. 801 et. seq.). The amendment will not result in an annual effect on the economy of $100,000,000 or more; a major increase in costs or prices; or significant adverse effects on competition, employment, investment, productivity, innovation, or on the ability of United States-based companies to compete with foreign-based companies in domestic and export markets.

Contract With America Advancement Act of 1996

The amendment is exempt from the reporting requirements of the Contract With America Advancement Act of 1996 (5 U.S.C. 801 et. seq.) because it concerns rules of agency organization, procedure, or practice that do not substantially affect the rights or obligations of non-agency parties.

Paperwork Reduction Act

The amendment is not subject to the Paperwork Reduction Act (44 U.S.C. 3501 et. seq.), since it does not contain any new information collection requirements.

List of Subjects in 19 CFR parts 206

Administrative practice and procedure, Business and industry, Canada, Imports, Investigations, Mexico, Trade agreements.

For the reasons stated in the preamble, the Commission amends 19 CFR part 206 as follows:

PART 206—INVESTIGATIONS RELATING TO GLOBAL AND BILATERAL SAFEGUARDS ACTIONS, MARKET DISRUPTION, AND REVIEW OF RELIEF ACTIONS

1. The authority citation for part 206 continues to read as follows:

Authority: 19 U.S.C. 1335, 2251-2254, 3351-3382; secs. 103, 301-302, Pub. L. 103-465, 108 Stat. 4809.

2. Amend § 206.52 to add a new paragraph (c) to read as follows:

§ 206.52 Monitoring.

* * * * *

(c) Limited disclosure of certain confidential business information under administrative protective order. Upon receipt of a timely application filed by an authorized applicant, the Secretary shall make available to an authorized applicant under administrative protective order all confidential business information contained in Commission memoranda and reports and in written submissions filed with the Commission at any time during an investigation under this section with respect to an article that was the subject of an affirmative Commission determination under section 202 of the Trade Act (except privileged information, classified information, and specific information of a type which there is a clear and compelling need to withhold from disclosure). Such disclosure shall be made in the manner provided for and in accordance with the procedures set forth in § 206.17. The provisions in paragraphs (d) and (e) of § 206.17 relating to Commission responses to a breach of an administrative protective order and breach procedure shall apply with respect to orders issued under this paragraph.

Issued: June 12, 2001.
By order of the Commission.
Donna R. Koehnke,
Secretary.

[FR Doc. 01-15164 Filed 6-13-01; 8:45 am]

BILLING CODE 7020-02-P